INTERNATIONAL TRADE COMMISSION

[Investigation Nos. 731-TA-865-867 (Review)]

Stainless Steel Butt-Weld Pipe Fittings From Italy, Malaysia, and the Philippines

AGENCY: United States International Trade Commission.

ACTION: Revised schedule for the subject full five-year reviews.

EFFECTIVE DATE: August 8, 2006.

FOR FURTHER INFORMATION CONTACT: Nathanael Comly (202-205-3174), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: On May 5, 2006, the Commission established a schedule for the conduct of the final phase of the subject reviews (71 FR 30695, May 30, 2006). The Commission is revising its schedule.

The Commission's new schedule for the reviews is as follows: requests to appear at the hearing must be filed with the Secretary to the Commission not later than September 7, 2006; the prehearing conference will be held at the U.S. International Trade Commission Building at 9:30 a.m. on September 12, 2006; the hearing will be held at the U.S. International Trade Commission Building at 9:30 a.m. on September 14, 2006; the deadline for filing posthearing briefs is September 25, 2006; the Commission will make its final release of information on October 19, 2006; and final party comments are due on October 23, 2006.

For further information concerning these reviews see the Commission's notice cited above and the Commission's Rules of Practice and Procedure, part 201, subparts A through E (19 CFR part 201), and part 207, subparts A, D, E and F (19 CFR part 207).

Authority: These reviews are being conducted under authority of title VII of the Tariff Act of 1930; this notice is published pursuant to section 207.62 of the Commission's rules.

By order of the Commission.
Issued: August 2, 2006.
Marilyn R. Abbott,
Secretary to the Commission.

[FR Doc. E6-12867 Filed 8-7-06; 8:45 am]

BILLING CODE 7020-02-P